DEPARTMENT OF THE INTERIOR

Bureau of Indian Affairs

Draft Environmental Impact Statement for the Jamul Indian Village 101 Acre Fee-to-Trust Transfer and Casino Project, San Diego County, CA

AGENCY: Bureau of Indian Affairs, Interior.

ACTION: Notice.

SUMMARY: This notice advises the public that the Bureau of Indian Affairs (BIA), in cooperation with the Jamul Indian Village and the National Indian Gaming Commission (NIGC), intends to file a draft Environmental Impact Statement (DEIS) with the U.S. Environmental Protection Agency for the proposed approval of a 101-acre fee-to-trust transfer, a gaming management contract and the construction of associated casino and support facilities. Details on the proposed action, location and areas of environmental concern addressed in the DEIS are provided in the SUPPLEMENTARY INFORMATION section. This notice also announces a public hearing to receive comments on the DEIS.

DATES: Written comments on the DEIS must arrive by March 2, 2003. The public hearing will be held on February 6, 2003, from 6 p.m. to 10 p.m., or until the last public comment is received.

ADDRESSES: You may mail or hand carry written comments to Ronald Jaeger, Regional Director, Bureau of Indian Affairs, Pacific Regional Office, 2800 Cottage Way, Sacramento, California 95825-1846. Please include your name, return address and the caption, “DEIS Comments, Jamul Indian Village 101 Acre Fee-to-Trust and Casino Project, San Diego County, California,” on the first page of your written comments.

The public hearing will be at the El Cajon Community Center, 195 East Douglas, El Cajon, California 92020. This meeting will be co-hosted by the BIA and Jamul Indian Village.

To obtain a copy of the DEIS, please write or call William Allan, Environmental Protection Specialist, Pacific Region, Bureau of Indian Affairs, 2800 Cottage Way, Sacramento, California 95825-1846, telephone (916) 978-6043. Copies of the DEIS are also available for review at the Jamul Indian Village Tribal Administration Office, 14191 Highway 94, Jamul, California 91935, and at the following two public libraries: San Diego County Library—El Cajon Branch, 201 East Douglas Avenue, El Cajon, California 92020; and San Diego County Library—Fletcher Hills Branch, 576 Garfield Avenue, El Cajon, California 92020.

FOR FURTHER INFORMATION CONTACT: William Allan, (916) 978-6043.

SUPPLEMENTARY INFORMATION: The Jamul Indian Village is located in eastern San Diego County, California, approximately one mile south of the community of Jamul. The project area is bordered by Melody Road to the north, vacant and residentially developed land to the west, vacant land to the south and State Route 94 to the east. State Route 94 provides direct access to downtown San Diego, approximately 20 miles to the west, where it intersects with Interstate 5.

The Jamul Indian Village proposes that 101 acres of land be taken into trust and that a casino, parking, hotel and other facilities supporting the casino be constructed on the existing Jamul Indian Village site and the 101-acre trust acquisition. The gaming facility will be managed by Lakes Kean Argovitz Resorts-California, LLC, (LKAR-CA) on behalf of the Tribal Government, pursuant to the terms of the management agreement between the Tribal Government and LKAR-CA. The BIA serves as the Lead Agency for National Environmental Policy Act (NEPA) compliance, with the NIGC, which is responsible for approval of the gaming management contract, acting as a Cooperating Agency.

Alternatives to the proposed project that are considered in the DEIS include: (1) Trust acquisition and casino and hotel construction (the proposed action); (2) trust acquisition, casino and retail development; (3) trust acquisition and retail development; (4) trust acquisition, hotel/casino north of Melody Road; and (5) no action.

Environmental issues addressed in the DEIS include land and water resources, air quality, biological resources, cultural resources, socioeconomic conditions, resource use patterns, public services, environmental justice, growth inducing effects, and cumulative impacts.

Public Comment Solicitation

Comments, including names and addresses of respondents, will be available for public review at the BIA mailing address shown in the ADDRESSES section, during regular business hours, 9 a.m. to 4 p.m., Monday through Friday, except holidays. Individual respondents may request confidentiality. If you wish us to withhold your name and/or address from public review or from disclosure under the Freedom of Information Act, you must state this prominently at the beginning of your written comment. Such requests will be honored to the extent allowed by the law. We will not, however, consider anonymous comments. All submissions from organizations or businesses, and from individuals identifying themselves as representatives or officials of organizations or businesses, will be made available for public inspection in their entirety.

Authority

This notice is published in accordance with section 1503.1 of the Council on Environmental Quality Regulations (40 CFR part 1500 through1508) implementing the procedural requirements of the National Environmental Policy Act of 1969, as amended (42 U.S.C. 4371 et seq.), and the Department of the Interior Manual (516 DM 1-6), and is in the exercise of authority delegated to the Assistant Secretary—Indian Affairs by 209 DM 8.

Dated: January 2, 2003.
Neal A. McCaleb,
Assistant Secretary—Indian Affairs.

[FR Doc. 03-517 Filed 1-9-03; 8:45 am]

BILLING CODE 4310-W7-P